OFFICE OF PERSONNEL MANAGEMENT

5 CFR Part 532

RIN 3206-AK91

Prevailing Rate Systems; Redefinition of the Adams-Denver, CO, Nonappropriated Fund Wage Area

AGENCY: Office of Personnel Management.

ACTION: Final rule.

SUMMARY: The Office of Personnel Management is issuing a final rule to remove Adams County, CO, from the Adams-Denver, CO, Federal Wage System nonappropriated fund (NAF) wage area, redefine Arapahoe County, CO, from the area of application to the survey area, and change the Adams-Denver wage area's name to Arapahoe-Denver. These changes are necessary because the closure of Fitzsimons Army Medical Center in Adams County left the Adams-Denver survey area without a host activity to conduct local NAF wage surveys.

DATES: This rule is effective on December 14, 2005.

FOR FURTHER INFORMATION CONTACT: Madeline Gonzalez, (202) 606-2838; e-mail pay-performance-policy@opm.gov; or FAX: (202) 606-4264.

SUPPLEMENTARY INFORMATION: On August 22, 2005, the Office of Personnel Management (OPM) issued a proposed rule (70 FR 48899) to remove Adams County, CO, from the Adams-Denver, CO, Federal Wage System nonappropriated fund wage area, redefine Arapahoe County, CO, from the area of application to the survey area, and change the Adams-Denver wage area's name to Arapahoe-Denver. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

Office of Personnel Management.
Linda M. Springer,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

2. In appendix D to subpart B, the wage area listing for the State of Colorado is amended by revising the listing for Adams-Denver to read as follows:

Appendix D to Subpart B of Part 532—Nonappropriated Fund Wage and Survey Areas

* * * * *

Colorado
Arapahoe-Denver
Survey Area
Colorado:
Arapahoe
Denver
Area of Application. Survey area plus:
Colorado:
Mesa

* * * * *

[FR Doc. 05-22539 Filed 11-10-05; 8:45 am]

BILLING CODE 6325-39-P